FEDERAL COMMUNICATIONS COMMISSION

47 CFR Part 73

[DA 01-61; 00-141, RM-9930; 00-142, RM-9923; 00-143, RM-9931; 00-144, RM-9925; 00-153, RM-9936]

Radio Broadcasting Services; Pentwater, MI, Hawthorne, NV, Ludington, MI, Groveton, NH, Marceline, MO

AGENCY: Federal Communications Commission.

ACTION: Final rule.

SUMMARY: The Commission allots: (1) Channel 280A to Pentwater, MI, as its third local commercial FM service, at the request of Garry Zack; (2) Channel 254C1 to Hawthorne, NV, as its first local aural service, at the request of Campbell River Broadcasting, LLC, and, on the Commission's own motion, deletes Channel 228A at Hawthorne, NV; (3) Channel 242A to Ludington, MI, as its second local commercial FM service, at the request of Garry Zack; (4) Channel 268A to Groveton, NH, as its second local FM service, at the request of Linda A. Davidson; and (5) Channel 256A to Marceline, MO, as its first local aural service, at the request of Ronald G Filbeck and Clyde John Holdsworth d/b/a RC Broadcasting Company. See, 65 FR 51575-51577, August 24, 2000, 65 FR 54833, September 11, 2000. All of the channels can be allotted in compliance with the Commission's minimum distance separation requirements. A filing window for these channels will not be opened at this time. Instead, the issue of opening a filing window for these channels will be addressed by the Commission in a subsequent order.

DATE: Effective February 26, 2001

FOR FURTHER INFORMATION CONTACT: Leslie K. Shapiro, Mass Media Bureau, (202) 418-2180.

SUPPLEMENTARY INFORMATION: Channel 280A can be allotted to Pentwater, MI, without the imposition of a site restriction, at coordinates 43-46-30 NL; 86-26-24 WL. Channel 254C1 can be allotted to Hawthorne, NV, without the imposition of a site restriction, at coordinates 38-31-29 NL; 118-37-25 WL. Channel 242A can be allotted to Ludington, MI, with a site restriction of 5.5 kilometers (3.4 miles) south, at coordinates 43-54-15 NL; 86-26-10 WL, to avoid a short-spacing to Station WLXT, Channel 242C1, Petoskey, MI. Channel 268A can be allotted to Groveton, NH, with a site restriction of 7.2 kilometers (4.4 miles) northeast, at coordinates 44-37-43 NL; 71-25-55 WL, to avoid a short-spacing to Stations WYKR-FM, Channel 267A, Haverhill, and WBHG, Channel 268A, Meredith, NH. Channel 256A can be allotted to Marceline, MO, with a site restriction of 7.2 kilometers (4.5 miles) northeast, at coordinates 39-44-42 NL; 92-52-33 WL, to avoid a short-spacing to Station KQRC-FM, Channel 255C, Leavenworth, KS.

This is a synopsis of the Commission's Report and Order, MM Docket Nos. 00-141, 00-142, 00-143, 00-144, and 00-153 adopted January 3, 2001, and released January 12, 2001. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Michigan, is amended by adding Channel 242A at Ludington and Channel 280A at Pentwater.

3. Section 73.202(b), the Table of FM Allotments under Missouri, is amended by adding Marceline, Channel 256A.

4. Section 73.202(b), the Table of FM Allotments under Nevada, is amended by adding Channel 254C1 and removing Channel 228A at Hawthorne.

5. Section 73.202(b), the Table of FM Allotments under New Hampshire, is amended by adding Channel 268A at Groveton.

Federal Communications Commission.
John A. Karousos,
Chief, Allocations Branch, Policy and Rules Division, Mass Media Bureau.

[FR Doc. 01-1982 Filed 1-23-01; 8:45 am]

BILLING CODE 6712-01-U